DEPARTMENT OF THE TREASURY

Submission for OMB Review; Comment Request

September 9, 2003.

The Department of Treasury has submitted the following public information collection requirement(s) to OMB for review and clearance under the Paperwork Reduction Act of 1995, Pub. L. 104-13. Copies of the submission(s) may be obtained by calling the Treasury Bureau Clearance Officer listed. Comments regarding this information collection should be addressed to the OMB reviewer listed and to the Treasury Department Clearance Officer, Department of the Treasury, Room 11000, 1750 Pennsylvania Avenue, NW, Washington, DC 20220.

Dates: Written comments should be received on or before October 16, 2003 to be assured of consideration.

Internal Revenue Service (IRS)

OMB Number: 1545-0140.

Form Number: IRS Forms 2210 and 2210-F.

Type of Review: Extension.

Title: Underpayment of Estimated Tax by Individuals, Estates, and Trusts (2210); and Underpayment of Estimated Tax by Farmers and Fishermen (2210-F).

Description: Internal Revenue Code section 6654 imposes a penalty for failure to pay estimated tax. These forms are used by taxpayers to determine whether they are subject to the penalty for failure to pay estimated tax. These forms are used by taxpayers to determine whether they are subject to the penalty and to compute the penalty if it applies. The Service uses this information to determine whether the taxpayer is subject to the penalty, and to verify the penalty amount.

Respondents: Business or other for-profit, Individuals or households, Farms.

Estimated Number of Respondents/Recordkeepers: 900,000.

Estimated Burden Hours Per Respondent/Recordkeeper:

| Short method | Regular method
Recordkeeping | 19 min | 13 min.
Learning about the law or the form | 15 min | 31 min.
Preparing the form | 39 min | 2 hr., 03 min.
Copying, assembling, and sending the form to the IRS | 20 min | 45 min.

Frequency of Response: Annually.

Estimated Total Reporting/Recordkeeping Burden: 2,519,500 hours.

OMB Number: 1545-0142.

Form Number: IRS Form 2220.

Type of Review: Extension.

Title: Underpayment of Estimated Tax by Corporations.

Description: Form 2220 is used by corporations to determine whether they are subject to the penalty for underpayment of estimated tax and, if so, the amount of the penalty. The IRS uses Form 2220 to determine if the penalty was correctly computed.

Respondents: Business or other for-profit.

Estimated Number of Respondents/Recordkeepers: 778,080.

Estimated Burden Hours Per Respondent/Recordkeeper:

Form | Recordkeeping | Learning about the law and the form | Preparing and sending the form to the IRS
2220 | 32 hr., 31 min | 1 hr., 5 min | 1 hr., 40 min.
2220, Schedule A, Part I | 22 hr., 43 min. | 0 min. | 22 min.
2220, Schedule A, Part II | 10 hr., 31 min | 18 min | 28 min.
2220, Schedule A, Part III | 6 hr., 13 min | 0 min | 06 min.

Frequency of Response: Annually.

Estimated Total Reporting/Recordkeeping Burden: 26,183,298 hours.

OMB Number: 1545-0393.

Form Number: Letter 109C.

Type of Review: Extension.

Title: Return Requesting Refund Unlocatable or Not Filed; Send Copy.

Description: The code requires tax returns to be filed. It also authorizes IRS to refund any overpayment of tax. If a taxpayer inquires about their non-receipt or refund and no return is found, this letter is sent requesting the taxpayer to file another return.

Respondents: Business or other for-profit, Individuals or households, Not-for-profit institutions.

Estimated Number of Respondents: 18,223.

Estimated Burden Hours Per Respondent: 5 minutes.

Frequency of Response: On occasion.

Estimated Total Reporting Burden: 1,513 hours.

OMB Number: 1545-1680.

Form Number: IRS Form 706-D.

Type of Review: Extension.

Title: United States Additional Estate Tax Return Under Code Section 2057.

Description: Form 706-D is used by individuals to compute and pay the additional taxes due under Code section 2057. IRS uses the information to determine that the taxes have been properly computed.

Respondents: Individuals or households.

Estimated Number of Respondents: 180.

Estimated Burden Hours Per Respondent/Recordkeeper:

Recordkeeping—39 min.

Learning about the law or the form—45 min.

Preparing the form—56 min.

Copying, assembling, and sending the form to the IRS—34 min.

Frequency of Response: Other (Section 2057 taxable event).

Estimated Total Reporting/Recordkeeping Burden: 530 hours.

Clearance Officer: Glenn Kirkland, Internal Revenue Service, Room 6411-03, 1111 Constitution Avenue, NW, Washington, DC 20224, (202) 622-3428.

OMB Reviewer: Joseph F. Lackey, Jr., Office of Management and Budget, Room 10235, New Executive Office Building, Washington, DC 20503, (202) 395-7316.

Mary A. Able,
Departmental Reports Management Officer.

[FR Doc. 03-23516 Filed 9-15-03; 8:45 am]

BILLING CODE 4830-01-P